DEPARTMENT OF COMMERCE

International Trade Administration

[A-122-840]

Notice of Final Determination of Sales at Less Than Fair Value: Carbon and Certain Alloy Steel Wire Rod From Canada

AGENCY: Import Administration, International Trade Administration, Department of Commerce.

EFFECTIVE DATE: August 30, 2002.

FOR FURTHER INFORMATION CONTACT: Constance Handley or Daniel O'Brien, at (202) 482-0631 or (202) 482-1376, respectively; Import Administration, International Trade Administration, U.S. Department of Commerce, 14th Street and Constitution Avenue NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (2001).

Final Determination

We determine that carbon and certain alloy steel wire rod (steel wire rod) from Canada is being sold, or is likely to be sold, in the United States at less than fair value (LTFV), as provided in section 735 of the Act. The estimated margins of sales at LTFV are shown in the “Continuation of Suspension of Liquidation” section of this notice.

Case History

The preliminary determination in this investigation was issued on April 2, 2002. See Notice of Preliminary Determination of Sales at Less Than Fair Value and Postponement of Final Determination: Carbon and Certain Alloy Steel Wire Rod from Canada, 67 FR 17389 (April 10, 2002). Since the publication of the preliminary determination, the following events have occurred:

In April and May 2002, the Department verified the responses submitted by the three respondents in the investigation: Ispat Sidbec Inc. (ISI), Ivaco, Inc. (Ivaco) and Stelco, Inc. (Stelco). Verification reports were issued in May and June 2002. On July 8, 2002, we received case briefs from the petitioners ¹ and the three respondents. On July 17, 2002, we received rebuttal briefs from the petitioners and the respondents. A public hearing was not held.

¹ The petitioners in this investigation are Co-Steel Raritand, Inc., and North Start Steel Texas, Inc.

Scope Issues

Since the Preliminary Determination a number of parties have filed requests asking the Department to exclude various products from the scope of the concurrent antidumping duty (Brazil, Canada, Germany, Indonesia, Mexico, Moldova, Trinidad and Tobago and Ukraine) and countervailing duty (Brazil, Canada, Germany, Trinidad and Tobago, and Turkey) investigations. On May 6, 2002, Ispat Hamburger Stahlwerke GmbH and Ispat Walzdraht Hochfeld GmbH (collectively, Ispat Germany) requested an exclusion for “super clean valve spring wire.” Two parties filed additional exclusion requests on June 14, 2002: Bluff City Steel asked that the Department exclude “clean-steel precision bar,” and Lincoln Electric Company sought the exclusion of its EW 2512 grade of metal inert gas welding wire. On June 28, 2002, petitioners filed objections to a range of scope exclusion requests including: (i) Bluff City Steel's request for clean precision bar; (ii) Lincoln Electric Company's request for EW 2512 grade wire rod; (iii) Ispat Germany's request for “super clean valve spring wire;” (iv) Tokusen USA's January 22, 2002 request for 1070 grade tire cord and tire bead quality wire rod (tire cord wire rod); and (v) various parties' request for 1090 grade tire cord wire rod.

In addition, Moldova Steel Works requested the exclusion of various grades of tire cord wire rod on July 17, 2002. The Rubber Manufacturers Association (the RMA), Ispat Germany, Lincoln Electric and Bluff City filed rebuttals to the petitioners' June 28, 2002 submission on July 8, 11, 17, and 29, 2002, respectively. The RMA filed additional comments on July 30, 2002.²

² On August 9, 2002, Bekaert Corporation requested an exclusion for certain high chrome/high silicon steel wire rod, from the scope of these investigations. This request was filed too late to be considered for the final determinations in these investigations.

The Department has analyzed these requests and the petitioners' objections and we find no modifications to the scope are warranted. See Memorandum from Richard Weible to Faryar Shirzad, “Carbon and Certain Alloy Steel Wire Rod; Antidumping Duty (Brazil, Canada, Germany, Indonesia, Mexico, Moldova, Trinidad and Tobago, and Ukraine) and Countervailing Duty (Brazil, Canada, Germany, Trinidad and Tobago, and Turkey) Investigations: Requests for Scope Exclusion” dated August 23, 2002, which is on file in room B-099 of the main Commerce building.

Scope of Investigation

The merchandise covered by this investigation is certain hot-rolled products of carbon steel and alloy steel, in coils, of approximately round cross section, 5.00 mm or more, but less than 19.00 mm, in solid cross-sectional diameter.

Specifically excluded are steel products possessing the above-noted physical characteristics and meeting the Harmonized Tariff Schedule of the United States (HTSUS) definitions for (a) stainless steel; (b) tool steel; (c) high nickel steel; (d) ball bearing steel; and (e) concrete reinforcing bars and rods. Also excluded are (f) free machining steel products (i.e., products that contain by weight one or more of the following elements: 0.03 percent or more of lead, 0.05 percent or more of bismuth, 0.08 percent or more of sulfur, more than 0.04 percent of phosphorus, more than 0.05 percent of selenium, or more than 0.01 percent of tellurium).

Also excluded from the scope are 1080 grade tire cord quality wire rod and 1080 grade tire bead quality wire rod. This grade 1080 tire cord quality rod is defined as: (i) Grade 1080 tire cord quality wire rod measuring 5.0 mm or more but not more than 6.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.15 mm; (vi) capable of being drawn to a diameter of 0.30 mm or less with 3 or fewer breaks per ton, and (vii) containing by weight the following elements in the proportions shown: (1) 0.78 percent or more of carbon, (2) less than 0.01 percent of aluminum, (3) 0.040 percent or less, in the aggregate, of phosphorus and sulfur, (4) 0.006 percent or less of nitrogen, and (5) not more than 0.15 percent, in the aggregate, of copper, nickel and chromium.

This grade 1080 tire bead quality rod is defined as: (i) Grade 1080 tire bead quality wire rod measuring 5.5 mm or more but not more than 7.0 mm in cross-sectional diameter; (ii) with an average partial decarburization of no more than 70 microns in depth (maximum individual 200 microns); (iii) having no inclusions greater than 20 microns; (iv) having a carbon segregation per heat average of 3.0 or better using European Method NFA 04-114; (v) having a surface quality with no surface defects of a length greater than 0.2 mm; (vi) capable of being drawn to a diameter of 0.78 mm or larger with 0.5 or fewer breaks per ton; and (vii) containing by weight the following elements in the proportions shown: (1) 0.78 percent or more of carbon, (2) less than 0.01 percent of soluble aluminum, (3) 0.040 percent or less, in the aggregate, of phosphorus and sulfur, (4) 0.008 percent or less of nitrogen, and (5) either not more than 0.15 percent, in the aggregate, of copper, nickel and chromium (if chromium is not specified), or not more than 0.10 percent in the aggregate of copper and nickel and a chromium content of 0.24 to 0.30 percent (if chromium is specified).

The designation of the products as “tire cord quality” or “tire bead quality” indicates the acceptability of the product for use in the production of tire cord, tire bead, or wire for use in other rubber reinforcement applications such as hose wire. These quality designations are presumed to indicate that these products are being used in tire cord, tire bead, and other rubber reinforcement applications, and such merchandise intended for the tire cord, tire bead, or other rubber reinforcement applications is not included in the scope. However, should petitioners or other interested parties provide a reasonable basis to believe or suspect that there exists a pattern of importation of such products for other than those applications, end-use certification for the importation of such products may be required. Under such circumstances, only the importers of record would normally be required to certify the end use of the imported merchandise.

All products meeting the physical description of subject merchandise that are not specifically excluded are included in this scope.

The products under investigation are currently classifiable under subheadings 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059 of the HTSUS. Although the HTSUS subheadings are provided for convenience and customs purposes, the written description of the scope of this proceeding is dispositive.

Period of Investigation

The period of investigation is July 1, 2000, through June 30, 2001. This period corresponds to the four most recent fiscal quarters prior to the month of the filing of the petition (i.e., August 2001).

Verification

As provided in section 782(i) of the Act, we conducted verification of the cost and sales information submitted by the three respondents. We used standard verification procedures including examination of relevant accounting and production records, and original source documents provided by the respondent.

Analysis of Comments Received

All issues raised in the case and rebuttal briefs by parties to this antidumping proceeding are listed in the appendix to this notice and addressed in the Decision Memorandum dated August 23, 2002, and are hereby adopted by this notice. The Decision Memorandum is on file in room B-099 of the main Department of Commerce building. In addition, a complete version of the Decision Memorandum can be accessed directly on the World Wide Web at http://www.ita.doc.gov/import_admin/records/frn. The paper and electronic versions of the Decision Memorandum are identical in content.

Changes Since the Preliminary Determinations

Based on our findings at verification, and analysis of comments received, we have made adjustments to the preliminary determination calculation methodologies in calculating the final dumping margins in these proceedings. These adjustments are discussed in the Decision Memorandum for this investigation.

Continuation of Suspension of Liquidation

In accordance with section 735(c)(1)(B) of the Act, we are directing the Customs Service to continue to suspend liquidation of all entries of steel wire rod exported from Canada, with the exception of merchandise produced by Stelco, Inc., that are entered, or withdrawn from warehouse, for consumption on or after the date of the preliminary determination. The Customs Service shall continue to require a cash deposit or the posting of a bond based on the estimated weighted-average dumping margins shown below. Because we have determined that steel wire rod produced by Stelco, Inc. is not being sold at LTFV, we are not directing the Customs Service to suspend liquidation of this merchandise. The suspension of liquidation instructions will remain in effect until further notice.

We determine that the following weighted-average dumping margins exist for Canada:

Manufacturer/exporter | Margin (percent)
ISI | 2.54
Ivaco | 13.35
Stelco | * 1.18
All Others | 9.91
* De minimis—excluded from the calculation of the “All Others” rate.

International Trade Commission Notification

In accordance with section 735(d) of the Act, we have notified the International Trade Commission (ITC) of our determination. The ITC will determine, within 45 days, whether imports of subject merchandise from Canada are causing material injury, or threaten material injury, to an industry in the United States. If the ITC determines that material injury or threat of injury does not exist, this proceeding will be terminated and all securities posted will be refunded or canceled. If the ITC determines that such injury does exist, the Department will issue an antidumping order directing Customs Service officials to assess antidumping duties on all imports of the subject merchandise entered, or withdrawn from warehouse for consumption on or after the effective date of the suspension of liquidation.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determinations is issued and published in accordance with sections 735(d) and 777(i)(1) of the Act.

Dated: August 23, 2002.
Faryar Shizad,
Assistant Secretary for Import Administration.

Appendix

Issues Covered in Decision Memorandum

Comment 1: Treatment of Negative Margins

Sales Issues Specific to Ivaco

Comment 2: Reported U.S. Inventory Carrying Costs

Comment 3: Indirect Selling Expenses Incurred in Canada

Comment 4: Facts Available Rate for Further Manufactured Sales

Comment 5: Sivaco Georgia's (SGA) Freight Revenue for Certain Sales

Comment 6: The Department Should Exclude All of Ivaco's Intra-Company Sales

Comment 7: Three Sales Identified by Ivaco as U.S. Sales

Comment 8: The Department Should Convert Ivaco's Home Market Gross Unit Price and Associated Expenses to a Uniform Currency

Cost Issues Specific to Ivaco

Comment 9: Deferred Production Costs

Comment 10: Ivaco's Reported Billet Costs and Cost of Manufacture

Comment 11: Financial Expense Ratio

Comment 12: General and Administrative Expense Ratio

Sales Issues Specific to ISI

Comment 13: Date of Payment for Unpaid Sales to a U.S. Customer

Comment 14: Matching of Prime Material to Non-Prime Material

Comment 15: Walker Wire's Sales of Wire Products

Comment 16: Segregation of Further-Manufactured Sales from Other Constructed Export Price Sales

Cost Issues Specific to ISI

Comment 17: Affiliated Party Inputs

Comment 18: General and Administrative Depreciation Expense

Comment 19: General and Administrative Expense—Further Manufacturing

Comment 20: Adjustment to Walker Wire's Cost of Manufacturing

Sales Issues Specific to Stelco

Comment 21: Sale Amount

Comment 22: Stelco's Sales to Stelfil Ltee. (Stelfil)

Cost Issues Specific to Stelco

Comment 23: “Collapsed Entities” Rule

Comment 24: Purchase of Pulverized Coal, Bloom Reheating Services and Billets

Comment 25: Purchases of Iron Ore

Comment 26: General and Administrative Expense Rates

Comment 27: Foreign Exchange Gains and Losses

Comment 28: Short-Term Interest Income

Comment 29: Further Manufacturing Costs

Comment 30: Minor Errors

[FR Doc. 02-22246 Filed 8-29-02; 8:45 am]

BILLING CODE 3510-DS-P